DEPARTMENT OF ENERGY

Office of International Regimes and Agreements; Proposed Subsequent Arrangement

AGENCY: Department of Energy.

ACTION: Notice of proposed subsequent arrangement.

SUMMARY: This notice has been issued under the authority of Section 131 of the Atomic Energy Act of 1954, as amended (42 U.S.C. 2160). The Department is providing notice of a proposed “subsequent arrangement” under the Agreement for Cooperation Between the United States of America and the Government of the Argentine Republic Concerning Peaceful Uses of Nuclear Energy and the Agreement Between the United States of America and Australia Concerning Peaceful Uses of Nuclear Energy.

This subsequent arrangement concerns the retransfer of 1.84 grams of uranium, 1.64 grams of which is in the isotope U-235, from the Comision Nacional De Energia Atomica (CNEA), Ezeiza, Argentina, to the Australian Nuclear Science and Technology Organization (ANSTO) in Lucas Heights, Australia. The material, which is currently in the form uranium ore concentrates (U3O8) and is located at CNEA's Instrumentation and Control Department, will be transferred to ANSTO for use at the Australian Replacement Research Reactor as internal sensitive material of five fission counters. CNEA originally obtained the material from the United States under a general license.

In accordance with Section 131 of the Atomic Energy Act of 1954, as amended, we have determined that this subsequent arrangement is not inimical to the common defense and security.

This subsequent arrangement will take effect no sooner than fifteen days after the date of publication of this notice.

Dated: March 12, 2009.
For the Department of Energy.
Richard Goorevich,
Director, Office of International Regimes and Agreements.

[FR Doc. E9-5815 Filed 3-17-09; 8:45 am]

BILLING CODE 6450-01-P